DEPARTMENT OF TRANSPORTATION

Federal Highway Administration

Environmental Impact Statement: In the Vicinity of Holy Cross and Crooked Creek, Alaska

AGENCY: Federal Highway Administration (FHWA), Alaska Department of Transportation and Public Facilities (ADOT&PF), DOT.

ACTION: Notice of intent.

SUMMARY: The FHWA is issuing this notice to advise the public that an environmental impact statement (EIS) will be prepared for a proposed Yukon-Kuskokwim (Y-K) Road Project in the vicinity of Holy Cross and Crooked Creek, Alaska.

FOR FURTHER INFORMATION CONTACT: Tim Haugh, Environment/Right-of-Way Programs Manager, Federal Highway Administration, P.O. Box 21648, Juneau, Alaska 99802, (907) 586-7430 or Patricia D. Miller, P.E., Project Manager, Alaska Department of Transportation and Public Facilities, Preconstruction Section, 2310 Peger Road, Fairbanks, Alaska 99709-5399, (907) 455-2275.

SUPPLEMENTARY INFORMATION: The Federal Highway Administration (FHWA), in cooperation with the Alaska Department of Transportation and Public Facilities (ADOT&PF) will prepare an EIS on a proposal to build a road connecting the Yukon River in the vicinity of the community of Holy Cross, Alaska, with the Kuskokwim River in the vicinity of the community of Crooked Creed, Alaska, a distance of about 90 miles.

The proposed project would develop a road connecting a dock on the Yukon River in the vicinity of the community of Holy Cross with a dock on the Kuskokwim River in the vicinity of the community of Crooked Creek. This proposed corridor would provide road access to inland areas between these two rivers, connect waterway routes, and enhance the movement of freight and fuel. Road Access connecting the neighboring communities along the rivers will also provide access to adjacent resource development in the area.

Alternatives have yet to be developed for the project. The No-build alternative will remain a viable alternative throughout the EIS process. The proposed Y-K Road Project is considered necessary to: meet the intent of the Northwest Alaska Transportation Plan; to provide access to resource development between the Yukon and Kuskokwim Rivers; and to provide road access to areas north of the Kuskokowim River and east of the Yukon River.

Letters describing the proposed action and soliciting comments will be sent to appropriate Federal, State, and local agencies, and to private organizations and citizens who have previously expressed or are known to have interest in this proposal. A series of agency and public meetings will be held in Holy Cross, Crooked Creek and other nearby communities throughout the EIS study process. In addition, public hearings will be held after approval of the draft EIS. Public notice will be given of the time and place of the meetings and hearings. The draft EIS will be available for public and agency review and comment prior to the public hearings. A formal agency scoping meeting is planned for Anchorage, Alaska, on August 27, 2004, and public scoping meetings are planned for Crooked Creek and Holy Cross, Alaska on August 25 and August 26, 2004, respectively.

To ensure that the full range of issues related to this proposed action are addressed and all significant issues identified, comments, and suggestions are invited from all interested parties. Comments or questions concerning this proposed action and the EIS should be directed to the FHWA or ADOT&PF at the addresses provided above.

(Catalog of Federal Domestic Assistance Program Number 20.205, Highway Planning and Construction. The regulations implementing Executive Order 12372 regarding intergovernmental consultation of Federal programs and activities apply to this program)
Dated: Issued on: August 4, 2004.
David C. Miller,
Division Administration Juneau, Alaska.

[FR Doc. 04-18240 Filed 8-9-04; 8:45 am]

BILLING CODE 4910-22-M